DEPARTMENT OF THE INTERIOR

Fish and Wildlife Service

[FWS-R4-ES-2012-N031; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by March 14, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone (904) 731-3191; facsimile (904) 731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-56762A

Applicant: University of Arkansas, Pine Bluff, Arkansas

Applicant requests authorization to take (capture, transport, temporarily house, conduct captive breeding, release and monitor populations), the yellowcheek darter (Etheostoma moorei). This activity will be conducted on the Little Red River in Arkansas and at the University of Arkansas at Pine Bluff.

Permit Application Number: TE-58322A

Applicant: Brent Mock, Nashville, Tennessee

Applicant requests authorization for non-lethal take of Indiana bats (Myotis sodalist) and gray bats (Myotis grisescens) for the purpose of conducting presence/absence surveys and collecting scientific data. This work will be conducted throughout the ranges of these species.

Permit Application Number: TE-58442A

Applicant: James Cox, Tallahassee, Florida

Applicant requests authorization to take Florida grasshopper sparrows (Ammodramus savannarum floridanus) by netting, handling, marking and releasing for the purpose of conducting scientific research in Osceola and Okeechobee Counties, Florida.

Permit Application Number: TE-63270A

Applicant: Dr. Robert Reynolds, Quincy, Massachusetts

Applicant requests authorization to take Puerto Rican boa (Epicrates inornatus) and Virgin Island boa (Epicrates monensis granti) by capturing, handling, collecting blood and tissue samples and releasing for the purpose of conducting scientific research in the Mato del Platano Nature Reserve, Puerto Rico.

Permit Application Number: TE-14097A

Applicant: Daniel Judy, Mount Dora, Florida

Applicant requests amendment of permit to allow for the take of Virginia big-eared bats (Corynorhinus townsendii virginianus) and Ozark big-eared bats (Corynorhinus townsendii ingens) while conducting presence/absence surveys. Applicant further requests authorization to conduct such activities in Oklahoma and Kansas.

Permit Application Number: TE-75916

Applicant: Dr. Julie Lockwood, Rutgers University, New Brunswick, New Jersey

Applicant requests authorization to take Cape Sable seaside sparrows (Ammodramus maritimus mirabilis) by netting, handling, marking and releasing for the purpose of conducting scientific research in Florida.

Permit Application Number: TE-63577A

Applicant: National Park Service, Mammoth Cave National Park

Applicant requests authorization for non-lethal take of Indiana bats (Myotis sodalist) and gray bats (Myotis grisescens) for the purpose of conducting presence/absence surveys and collecting scientific data. This work will be conducted at and in the vicinity of Mammoth Cave National Park, Kentucky.

Permit Application Number: TE-63633A

Applicant: Biodiversity Research Institute, Gorham, Maine

Applicant requests authorization for non-lethal take of Indiana bats (Myotis sodalist) and gray bats (Myotis grisescens) for the purpose of conducting presence/absence surveys and collecting scientific data. This work will be conducted in Tennessee, New Jersey and New York.

Permit Application Number: TE-63797A

Applicant: Christopher Owen, Louisville, Kentucky

Applicant requests authorization for take (capture, survey, handle, hold in captivity, propagate and release), for the purpose of collecting scientific data and artificial propagation research, the following freshwater mussel species:

Cumberland bean (Villosa trabalis)

Fanshell (Cyprogenia stegaria)

Little-wing pearlymussel (Pegias fabula)

Orangefoot pimpleback (Plethobasus cooperianus)

Ring pink mussel (Obovarua retusa)

Rough pigtoe (Pleurobema plenum)

This work will be conducted in the Cumberland, Green, Kentucky, Licking, Salt and Ohio River basins.

Dated: January 27, 2012.
Franklin J. Arnold, III,
Acting Regional Director.

[FR Doc. 2012-3236 Filed 2-10-12; 8:45 am]

BILLING CODE 4310-55-P